DEPARTMENT OF HEALTH AND HUMAN SERVICES

National Toxicology Program (NTP); Report on Carcinogens (RoC); Request for Public Comments on the RoC Expert Panel's Recommendation on Listing Status for Styrene in the 12th RoC and the Scientific Justification for the Recommendation

AGENCY: National Institute of Environmental Health Sciences (NIEHS); National Institutes of Health (NIH).

ACTION: Request for comments.

SUMMARY: The RoC Office invites public comment on the recommendation from an expert panel on the listing status for styrene in the 12th RoC and the scientific justification for the recommendation. The recommendation and scientific justification for styrene is available electronically in Part B of the Expert Panel Report (http://ntp.niehs.nih.gov/go/29682, see Expert Panel Report Part B) or in printed text from the RoC Office (see FOR FURTHER INFORMATION CONTACT below). The RoC Office convened an eleven-member expert panel of scientists from the public and private sectors on July 21-22, 2008. The panel was asked (1) to apply the RoC listing criteria to the relevant scientific evidence and make a recommendation regarding listing status (i.e., known to be a human carcinogen, reasonably anticipated to be a human carcinogen, or not to list) for styrene in the 12th RoC and (2) to provide the scientific justification for the recommendation.

DATES: The Expert Panel Report (Part B) for styrene will be available for public comment by September 3, 2008. Written comments should be submitted by October 23, 2008.

ADDRESSES: Comments should be sent to Dr. Ruth Lunn, Director, RoC Office [NIEHS, P.O. Box 12233, MD EC-14, Research Triangle Park, NC 27709, Fax: 919-541-0144, or lunn@niehs.nih.gov. Courier address: Report on Carcinogens, 79 T.W. Alexander Drive, Building 4401, Room 3118, Research Triangle Park, NC 27709].

FOR FURTHER INFORMATION CONTACT: Dr. Ruth Lunn, RoC Office, 919-316-4637 lunn@niehs.nih.gov.

SUPPLEMENTARY INFORMATION:

Background

Styrene is a flammable liquid used worldwide in the manufacture of polystyrene, which is used extensively in the manufacture of plastic packaging, thermal insulation in building construction and refrigeration equipment, and disposable cups and containers. Styrene also is used in other polymers and resins that are used to manufacture boats, shower stalls, tires, automotive parts, and many other products. The general population is exposed to styrene from inhalation of indoor air; and outdoor air, tobacco smoke, and ingestion of food. Occupational exposure occurs mainly in the reinforced plastics, styrene-butadiene rubber, and styrene monomer and polymer industries.

As part of the RoC review process (available at http://ntp.niehs.nih.gov/go/15208), the NTP announced the availability of the draft background document for styrene (Federal Register: May 20, 2008: Vol. 73, No. 98, pages 29139-29140), invited public comments on the draft background document, and announced the styrene expert panel meeting. The RoC Office convened an eleven-member expert panel of scientists from the public and private sectors to evaluate styrene. The expert panel met on July 21-22, 2008, in a public forum at the Radisson Governors Inn, Research Triangle Park, North Carolina. The panel was charged to peer review the draft background document for styrene and then to make a recommendation on its listing status in the 12th RoC and to provide a scientific justification for that recommendation. Details about the meeting, including public comments received and the expert panel reports, are available on the RoC Web site (http://ntp.niehs.nih.gov/go/29682). The expert panel report for styrene contains two parts: Part A contains the peer-review comments on the draft background document and Part B is the recommendation on listing status and its scientific justification. The expert panel recommended that (1) styrene be listed in the 12th RoC as reasonably anticipated to be a human carcinogen. The panel's recommendation on listing status and its scientific justification are now being released for public comment.

Request for Comments

The RoC Office invites written public comments on the expert panel's recommendation on listing status for styrene and the scientific justification for the recommendation. All comments received will be posted on the RoC Web site. Persons submitting written comments are asked to include their name and contact information (affiliation, mailing address, telephone and facsimile numbers, e-mail, and sponsoring organization, if any) and send them to Dr. Lunn (see ADDRESSES above). The deadline for submission of written comments is October 23, 2008.

Next Steps

The RoC Office is in the process of finalizing the background document for styrene based upon the expert panel's peer review comments and the public comments received (73 FR 29139). Persons can register free-of-charge with the NTP listserve (http://ntp.niehs.nih.gov/go/231) to receive notification when the final background document is posted on the RoC Web site (http://ntp.niehs.nih.gov/go/10091). As part of the RoC review process, two government groups will also conduct reviews of styrene; these meetings are not open to the public. Upon completion of these reviews, the NTP will (1) draft a substance profile for styrene, which contains its listing recommendation for the 12th RoC and the scientific information supporting that recommendation; (2) solicit public comment on the draft substance profile; and (3) convene a meeting of the Board of Scientific Counselors to peer review the draft substance profile.

Background Information on the RoC

The RoC is a Congressionally mandated document that identifies and discusses agents, substances, mixtures, or exposure circumstances (collectively referred to as “substances”) that may pose a hazard to human health by virtue of their carcinogenicity. The RoC follows a formal, multi-step process for review and evaluation of selected chemicals. Substances are listed in the report as either known or reasonably anticipated human carcinogens. The NTP prepares the RoC on behalf of the Secretary of Health and Human Services. Information about the RoC and the review process is available on its Web site (http://ntp.niehs.nih.gov/go/roc) or by contacting Dr. Lunn (see FOR FURTHER INFORMATION CONTACT above).

Dated: August 29, 2008.
Samuel H. Wilson,
Acting Director, National Institute of Environmental Health Sciences and National Toxicology Program.

[FR Doc. E8-20777 Filed 9-5-08; 8:45 am]

BILLING CODE 4140-01-P